DEPARTMENT OF HEALTH AND HUMAN SERVICES

Food and Drug Administration

[Docket No. FDA-2018-N-3431]

Anesthetic and Analgesic Drug Products Advisory Committee; Notice of Meeting; Establishment of a Public Docket; Request for Comments; Correction

AGENCY: Food and Drug Administration, HHS.

ACTION: Notice; correction.

SUMMARY: The Food and Drug Administration is correcting a notice entitled “Anesthetic and Analgesic Drug Products Advisory Committee; Notice of Meeting; Establishment of a Public Docket; Request for Comments” that appeared in the Federal Register of September 11, 2018. The document announced a forthcoming public advisory committee meeting of the Anesthetic and Analgesic Drug Products Advisory Committee and establishment of a public docket for comments. The document was published with the incorrect docket number. This document corrects that error.

FOR FURTHER INFORMATION CONTACT: Lisa Granger, Office of Policy and Planning, Food and Drug Administration, 10903 New Hampshire Ave., Bldg. 32, Rm. 3330, Silver Spring, MD 20993-0002, 301-796-9115.

SUPPLEMENTARY INFORMATION: In the Federal Register of Tuesday, September 11, 2018 (83 FR 45941), in FR Doc. 2018-19667, on page 45941, the following correction is made:

On page 45941, in the first column, in the header of the document, and also in the third column under Instructions, “Docket No. FDA-2018-N-3276” is corrected to read “Docket No. FDA-2018-N-3431”.

Dated: September 11, 2018.
Leslie Kux,
Associate Commissioner for Policy.

[FR Doc. 2018-20091 Filed 9-14-18; 8:45 am]

BILLING CODE 4164-01-P